DEPARTMENT OF HOMELAND SECURITY

Coast Guard

33 CFR Part 117

[Docket No. USCG-2012-0013]

Drawbridge Operation Regulations; Connecticut River, Old Lyme, CT

AGENCY: Coast Guard, DHS.

ACTION: Notice of temporary deviation from regulations.

SUMMARY: The Commander, First Coast Guard District, has issued a temporary deviation from the regulation governing the operation of the Old Saybrook-Old Lyme RR Bridge, mile 3.4, across the Connecticut River at Old Lyme, Connecticut. The deviation is necessary to facilitate bridge maintenance. This deviation allows the bridge to remain in the closed position for three days.

DATES: This deviation is effective from 7 a.m. on March 5, 2012 through 11 p.m. on March 7, 2012.

ADDRESSES: Documents mentioned in this preamble as being available in the docket are part of docket USCG-2012-0013 and are available online at www.regulations.gov, inserting USCG-2012-0013 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Ms. Judy Leung-Yee, Project Officer, First Coast Guard District, judy.k.leung-yee@uscg.mil, or telephone (212) 668-7165. If you have questions on viewing the docket, call Renee V. Wright, Program Manager, Docket Operations, telephone (202) 366-9826.

SUPPLEMENTARY INFORMATION: The Old Saybrook-Old Lyme RR Bridge at mile 3.4, across the Connecticut River at Old Lyme, Connecticut, has a vertical clearance in the closed position of 19 feet at mean high water and 22 feet at mean low water. The drawbridge operation regulations are listed at 33 CFR 117.205(b).

The owner of the bridge, National Passenger Railroad Corporation (Amtrak), requested a temporary deviation from the regulations to facilitate bridge maintenance by replacing the secondary reducer bearing.

Under this temporary deviation the Old Saybrook-Old Lyme RR Bridge may remain in the closed position from 7 a.m. on March 5, 2012 through 11 p.m. on March 7, 2012.

All known waterway users were notified and no objections were received.

In accordance with 33 CFR 117.35(e), the bridge must return to its regular operating schedule immediately at the end of the designated time period. This deviation from the operating regulations is authorized under 33 CFR 117.35.

Dated: January 26, 2012.
Gary Kassof,
Bridge Program Manager, First Coast Guard District.

[FR Doc. 2012-2787 Filed 2-7-12; 8:45 am]

BILLING CODE 9110-04-P